DEPARTMENT OF LABOR

Employment and Training Administration

[TA-W-53,862]

Quest Star Medical, Inc., Eden Prairie, MN; Notice of Termination of Investigation

Pursuant to section 221 of the Trade Act of 1974, as amended, an investigation was initiated on December 23, 2003, in response to a petition filed by the State Trade Act Coordinator on behalf of workers producing diabetic glucose meters at Quest Star Medical, Inc., Eden Prairie, Minnesota.

The petition regarding the investigation has been deemed invalid. In order to establish a valid worker group, there must be at least three full-time production workers employed at some point during the period under investigation, and at least three separated from employment. Workers of the group subject to this investigation did not meet this threshold level of employment or separation.

Consequently, the investigation has been terminated.

Signed in Washington, DC, this 22nd day of January, 2004.
Richard Church,
Certifying Officer, Division of Trade Adjustment Assistance.

[FR Doc. 04-3326 Filed 2-13-04; 8:45 am]

BILLING CODE 4510-30-P